DEPARTMENT OF DEFENSE

Office of the Secretary

32 CFR Part 242a

[Docket ID: DOD-2019-OS-0021]

RIN 0790-AK36

Public Meeting Procedures of the Board of Regents, Uniformed Services University of the Health Sciences

AGENCY: Under Secretary of Defense for Personnel and Readiness, Department of Defense.

ACTION: Final rule.

SUMMARY: This final rule removes the Department of Defense (DoD) regulation, not updated since December 20, 1977, regarding the administrative policies and procedures on establishing and providing notice on advisory committee meetings of the Board of Regents (BOR), Uniformed Services University of the Health Sciences (University). This includes definitions and instructions for both open and closed meetings. The BOR is now a federal advisory committee, and its policies and procedures do not require rulemaking. Therefore, this rule is outdated and unnecessary and can be removed from the Code of Federal Regulations (CFR).

DATES: This rule is effective on June 21, 2019.

FOR FURTHER INFORMATION CONTACT: Steven J. Weiss, Associate General Counsel, Uniformed Services University of the Health Sciences, 4301 Jones Bridge Road, Room A-1030. Email: steven.weiss@usuhs.edu. Telephone: (301) 295-3028. Facsimile: (301) 295-6681.

SUPPLEMENTARY INFORMATION: In support of a recommendation from the DoD Regulatory Reform Task Force, DoD is removing this regulation, which contains public meeting procedures of the BOR. This rule was first published March 7, 1977 (42 FR 12853), and most recently amended on December 20, 1977 (42 FR 63775). Section 8091 of Public Law 101-511 (November 5, 1990) transferred all authorities from the BOR to the Secretary of Defense and stated “. . . the Board hereafter shall be an advisory board to the Secretary of Defense.” Since the 1990 change, the BOR complies with the Federal Advisory Committee Act (5 U.S.C. App.), the General Services Administration's Federal Advisory Committee Management Final Rule (41 CFR part 102-3), and 10 U.S.C. 2113a, rendering this rule unnecessary.

On March 28, 2019 (84 FR 11754), DoD published a notice in the Federal Register to announce that it is renewing the charter of the BOR. The BOR's charter and contact information for the BOR's Designated Federal Officer can be found at https://www.facadatabase.gov/FACA/apex/FACAPublicAgencyNavigation. It has been determined that publication of this CFR part removal for public comment is impracticable, unnecessary, and contrary to public interest because it removes only outdated and unnecessary information from the CFR.

This rule is not significant under Executive Order (E.O.) 12866, “Regulatory Planning and Review,” therefore, E.O. 13771, “Reducing Regulation and Controlling Regulatory Costs” does not apply.

List of Subjects in 32 CFR Part 242a

Medical and dental schools, Sunshine Act.

PART 242a—[REMOVED]

Accordingly, by the authority of 5 U.S.C. 301, 32 CFR part 242a is removed.

Dated: June 17, 2019.
Shelly E. Finke,
Alternate OSD Federal Register Liaison Officer, Department of Defense.

[FR Doc. 2019-13198 Filed 6-20-19; 8:45 am]

BILLING CODE 5001-06-P